DEPARTMENT OF HEALTH AND HUMAN SERVICES

Health Resources and Services Administration

Privacy Act of 1974; Deletion of an Existing System of Records

AGENCY: Department of Health and Human Services (HHS), Health Resources and Services Administration (HRSA).

ACTION: Notice to delete an existing HRSA system of records (SOR).

SUMMARY: In accordance with the requirements of the Privacy Act of 1974, HRSA is deleting an existing system of records titled the “Physician Shortage Area Scholarship Program, HHS, HRSA, BPHC” HRSA System No. 09-15-0042. This system of records is being deleted in order to consolidate it with “Public Health Service (PHS) and National Health Service Corps~NHSC) Scholarship/Loan Repayment Participants Records System, HHS/HRSA/BPHC,” HRSA System No. 09-15-0037, which is proposed to be modified/altered.

DATES: HRSA filed a deletion of a system report with the Chair of the House Committee on Government Reform and Oversight, the Chair of the Senate Committee on Homeland Security and Governmental Affairs, and the Administrator, Office of Information and Regulatory Affairs, Office of Management and Budget (OMB) on March 15, 2010. To ensure all parties have adequate time in which to comment, the deletion of the system will become effective 30 days from the publication of the notice or 40 days from the date it was submitted to OMB and Congress, whichever is later, unless HRSA receives comments that require alterations to this notice.

ADDRESSES: Please address comments to: Policy Director, Bureau of Clinician Recruitment and Service (BCRS), Health Resources and Services Administration (HRSA), 5600 Fishers Lane, Room 8-15, Rockville, MD 20857, telephone (301) 443-4154, FAX (301) 594-4076. Comments received will be available for review at this location, by appointment, during regular business hours, Monday through Friday from 9 a.m.-3 p.m., Eastern Time Zone.

FOR FURTHER INFORMATION CONTACT: Associate Administrator, Bureau of Clinician Recruitment and Service (BCRS), Health Resources and Services Administration (HRSA), 5600 Fishers Lane, Room 8-05, Rockville, MD 20857, telephone (301) 594-4200, FAX (301) 594-4076. This is not a toll-free number.

SUPPLEMENTARY INFORMATION: The Physician Shortage Area Scholarship Program (PSASP) system of records is consolidated with the system of records “Public Health Service (PHS) and National Health Service Corps—NHSC) Scholarship/Loan Repayment Participants Records System, HHS/HRSA/BPHC,” HRSA System No. 09-15-0037, to reflect organizational changes within HRSA, including the creation of the Bureau of Clinician Recruitment and Service (BCRS).

Dated: March 29, 2010.
Mary K. Wakefield,
Administrator.

[FR Doc. 2010-7928 Filed 4-7-10; 8:45 am]

BILLING CODE 4160-15-P